Title 3—

The President

Proclamation 10024 of May 1, 2020

National Hurricane Preparedness Week, 2020

By the President of the United States of America

A Proclamation

As we observe National Hurricane Preparedness Week, I call on Americans in hurricane-prone regions to take appropriate measures to help mitigate the devastation that these storms can produce. Through proper preparation, we can bolster our resilience against any challenge we face from these incredibly powerful storms.

Accurate forecasting is crucial for communities across our country, which need advance notice to protect lives and property from hurricanes. My Administration remains dedicated to enhancing our hurricane tracking and prediction capabilities. As we have entered a new era of supercomputing, we have been able to increase our computing capacity and ensure the United States has the most accurate weather forecasting models in the world. Additionally, the National Oceanic and Atmospheric Administration's Earth Prediction Innovation Center continues to improve our knowledge of severe weather and further increase our forecasting accuracy. Innovators like these are helping to protect the lives of Americans living in hurricane-prone areas, giving them access to critical information before a hurricane arrives and enabling appropriate preparations.

While these strides in improving our predictive abilities are significant, the power of preemptive planning for every hazard created by hurricanes cannot be discounted. In the United States, storm surge and inland flooding from heavy rains have historically caused more hurricane-related deaths than the winds generated by the storms. The National Weather Service's Weather-Ready Nation initiative and the Federal Emergency Management Agency's Ready Campaign are excellent resources for preparing your defense against the destructive potential of hurricanes and other severe storms. Emergency planning—including putting together an emergency supply kit; ensuring your house and business are hurricane-ready; considering flood insurance options; creating communication plans with family members; and, when a storm approaches, determining if you live in a hurricane evacuation zone—will help empower you, your community, and our Nation to be more prepared and responsive.

Hurricane season can also place a heavy burden on our medical professionals, first responders, and critical infrastructure workers. We know these very same people are already operating under great strain to respond to the coronavirus pandemic. We extend to them our deepest gratitude and vow to provide them any support they need during these challenging times. This week is an opportunity for all Americans living in areas susceptible to hurricane-related harm to take proactive measures to protect their families, businesses, communities, and livelihood. Taking action now to keep our loved ones and property safe from the threats posed by hurricanes will help us be an even more resilient Nation.

NOW, THEREFORE, I, DONALD J. TRUMP, President of the United States of America, by virtue of the authority vested in me by the Constitution and the laws of the United States, do hereby proclaim May 3 through May 9, 2020 as National Hurricane Preparedness Week. I call upon everyone to take action this week by making use of the online resources provided by the National Weather Service and the Federal Emergency Management Agency to safeguard your families, homes, and businesses from the dangers of hurricanes and severe storms. I also call upon Federal, State, local, tribal, and territorial emergency management officials to help inform our communities about hurricane preparedness and response in order to prevent storm damage and save lives.

IN WITNESS WHEREOF, I have hereunto set my hand this first day of May, in the year of our Lord two thousand twenty, and of the Independence of the United States of America the two hundred and forty-fourth.

[FR Doc. 2020-09970

Filed 5-6-20; 11:15 am]

Billing code 3295-F0-P